DEPARTMENT OF DEFENSE

Department of Defense Military Family Readiness Council (MFRC); Notice of Federal Advisory Committee Meeting

AGENCY: Department of Defense.

ACTION: Notice.

SUMMARY: The Department of Defense is publishing this notice to announce a Federal advisory committee meeting of the Department of Defense Military Family Readiness Council. This meeting will be open to the public.

DATES: Monday, August 18, 2014, from 1:30 p.m. to 3:30 p.m.

ADDRESSES: Pentagon Conference Center B6 (escorts will be provided from the Pentagon Metro entrance).

FOR FURTHER INFORMATION CONTACT: Ms. Melody McDonald or Ms. Yuko Whitestone, Office of the Deputy Assistant Secretary of Defense (Military Community & Family Policy), 4800 Mark Center Drive, Alexandria, VA 22350-2300, Room 3G15. Telephones (571) 372-0880; (571) 372-0881 and/or email: OSD Pentagon OUSD P-R Mailbox Family Readiness Council osd.pentagon.ousd-p-r.mbx.family-readiness-council@mail.mil.

SUPPLEMENTARY INFORMATION: This meeting is being held under the provisions of the Federal Advisory Committee Act of 1972 (5 U.S.C. Appendix, as amended), the Government in the Sunshine Act of 1976 (5 U.S.C. 552b, as amended), and 41 CFR 102-3.150. The purpose of the Council meeting is to review and make recommendations to the Secretary of Defense regarding policy and plans; monitor requirements for the support of military family readiness by the Department of Defense; and evaluate and assess the effectiveness of the military family readiness programs and activities of the Department of Defense. Pursuant to 5 U.S.C. 552b and 41 CFR 102-3.140 through 102-3.165, this meeting is open to the public, subject to the availability of space. Persons desiring to attend may contact Ms. Melody McDonald at 571-372-0880 or email OSD Pentagon OUSD P-R Mailbox Family Readiness Council osd.pentagon.ousd-p-r.mbx.family-readiness-council@mail.mil no later than 5:00 p.m., on Friday, August 8, 2014 to arrange for escort inside the Pentagon to the Conference Room area.

Pursuant to 41 CFR 102-3.140, and section 10(a)(3) of the Federal Advisory Committee Act of 1972, the public or interested organizations may submit written comments to the Council about its approved agenda pertaining to the meeting, or at any time on the Council's mission. Persons desiring to submit a written statement to the Council must notify the point of contact listed in FOR FURTHER INFORMATION CONTACT no later than 5:00 p.m., on Friday, August 8, 2014.

The purpose of this meeting is to continue discussion of Military Family Readiness Council focus items for 2014.

Monday, August 18, 2014 Meeting Agenda

Welcome & Administrative Remarks.

Spouse Support Programs, including the Military Spouse Employment Partnership.

Service Member Transition, including efforts supporting transitioning families, efforts supporting Guard and Reserve families, and the Veterans Employment Center project.

Support to Military Caregivers, including outreach, training, and medical services.

Closing Remarks.

Note: Exact order may vary.

Dated: July 15, 2014.
Aaron Siegel,
Alternate OSD Federal Register Liaison Officer, Department of Defense.

[FR Doc. 2014-17000 Filed 7-18-14; 8:45 am]

BILLING CODE 5001-06-P